DEPARTMENT OF TRANSPORTATION

Federal Aviation Administration

14 CFR Part 39

[Docket No. FAA-2013-0628; Directorate Identifier 2013-NM-132-AD; Amendment 39-17523; AD 2013-15-07]

RIN 2120-AA64

Airworthiness Directives; the Boeing Company Airplanes

AGENCY: Federal Aviation Administration (FAA), DOT.

ACTION: Final rule; request for comments.

SUMMARY: We are adopting a new airworthiness directive (AD) for certain The Boeing Company Model 787-8 airplanes. This AD requires either removal or inspection of the Honeywell fixed emergency locator transmitter (ELT), and corrective action if necessary. This AD was prompted by a report of a fire involving a Honeywell fixed ELT. We are issuing this AD to prevent a fire in the aft crown of the airplane, or to detect and correct discrepancies within the ELT that could cause such a fire.

DATES: This AD is effective on July 26, 2013.

We must receive comments on this AD by September 9, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Kenneth Fairhurst, Senior Aerospace Engineer, Systems and Equipment Branch, ANM-130S, FAA, Seattle Aircraft Certification Office (ACO), 1601 Lind Avenue SW., Renton, Washington 98057-3356; phone: 425-917-6466; fax: 425-917-6590; email: Kenneth.Fairhurst@faa.gov.

SUPPLEMENTARY INFORMATION:

Discussion

We have received a report of a fire involving the Honeywell fixed emergency locator transmitter (ELT) on a Model 787-8 airplane. The investigation indicates that the ELT may have initiated the event. Discrepancies within the ELT, if not corrected, could cause a fire in the aft crown of the airplane.

FAA's Determination

We are issuing this AD because we evaluated all the relevant information and determined the unsafe condition described previously is likely to exist or develop in other products of the same type design.

AD Requirements

This AD requires either removing the Honeywell fixed ELT, or inspecting the ELT (for discrepancies associated with the ELT, ELT battery, and associated wiring), and doing corrective action if necessary, in accordance with a method approved by the FAA.

The applicability of this AD is limited to in-service airplanes, which have been delivered with Honeywell fixed ELTs having part number 1152682-2. Future production airplanes will be addressed prior to delivery.

We recognize that various civil aviation authorities (CAA) have different operational requirements regarding the use of ELTs. While the United States does not require a fixed ELT to be installed for operation, operation of an airplane without an ELT in a particular country's airspace may require coordination with that country's CAA.

Interim Action

This AD is considered to be interim action. Because the fire occurred on a Model 787-8 airplane, required actions in this AD are focused on Honeywell fixed ELTs installed on that model. However, we acknowledge that ELTs are installed on various other aircraft; therefore, continued investigation is required. Once final action has been identified, we might consider further rulemaking.

FAA's Justification and Determination of the Effective Date

An unsafe condition exists that requires the immediate adoption of this AD. The FAA has found that the risk to the flying public justifies waiving notice and comment prior to adoption of this rule because discrepancies within the Honeywell fixed ELT could cause a fire in the aft crown of the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2013-0628 and Directorate Identifier 2013-NM-132-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 6 airplanes of U.S. registry. We estimate the following costs to comply with this AD:

Estimated Costs
Action | Labor cost | Parts cost | Cost per product | Cost on U.S. operators
Removal or inspection | 1 work-hour × $85 per hour = $85 | $0 | $85 | $510

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-15-07 the Boeing Company: Amendment 39-17523; Docket No. FAA-2013-0628; Directorate Identifier 2013-NM-132-AD.

(a) Effective Date

This AD is effective on July 26, 2013.

(b) Affected ADs

None.

(c) Applicability

This AD applies to The Boeing Company Model 787-8 airplanes, certificated in any category, line numbers 7 through 9 inclusive, 23, 24, 27, 29, 31, 33 through 35 inclusive, 37, 38, 40 through 42 inclusive, 44 through 72 inclusive, 74 through 78 inclusive, 80, 82 through 84 inclusive, 86, 87, 89, 92, 94 through 99 inclusive, 101, 102, 108, and 111.

(d) Subject

Joint Aircraft System Component (JASC)/Air Transport Association (ATA) of America Code 23, Communications.

(e) Unsafe Condition

This AD was prompted by a report of a fire involving the Honeywell fixed emergency locator transmitter (ELT). We are issuing this AD to prevent a fire in the aft crown of the airplane, or to detect and correct discrepancies within the ELT that could cause such a fire.

(f) Compliance

Comply with this AD within the compliance times specified, unless already done.

(g) Honeywell Fixed ELT Removal or Inspection

Within 10 days after the effective date of this AD, do the actions specified in either paragraph (g)(1) or (g)(2) of this AD.

(1) Remove the Honeywell fixed ELT using a method approved in accordance with the procedures specified in paragraph (h) of this AD.

(2) Inspect the Honeywell fixed ELT for discrepancies, and do all applicable corrective actions before further flight, using a method approved in accordance with the procedures specified in paragraph (h) of this AD.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(i) Related Information

For more information about this AD, contact Kenneth Fairhurst, Senior Aerospace Engineer, Systems and Equipment Branch, ANM-130S, FAA, Seattle Aircraft Certification Office (ACO), 1601 Lind Avenue SW., Renton, Washington 98057-3356; phone: 425-917-6466; fax: 425-917-6590; email: Kenneth.Fairhurst@faa.gov.

(j) Material Incorporated by Reference

None.

Issued in Renton, Washington, on July 23, 2013.
Stephen P. Boyd,
Acting Manager, Transport Airplane Directorate, Aircraft Certification Service.

[FR Doc. 2013-18110 Filed 7-25-13; 8:45 am]

BILLING CODE 4910-13-P